DEPARTMENT OF HEALTH AND HUMAN SERVICES

Office of Inspector General

Program Exclusions: August 2003

AGENCY: Office of Inspector General, HHS.

ACTION: Notice of program exclusions.

During the month of August 2003, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

PROGRAM-RELATED CONVICTIONS
Bruce, Nicole Elizabeth | Keene, NH | 9/19/2003
Khanin, Anna | Brooklyn, NY | 9/19/2003
Nair, Ramachandran | Staten Island, NY | 9/19/2003
Munoz, Jesse Blane | Manhassett, NY | 9/19/2003
Spencer, Eric | Rochester, NY | 9/19/2003
Anderson, Lisa | Poughkeepsie, NY | 9/19/2003
Rojas, Enrique | Fishkill, NY | 9/19/2003
Chhabra, Vijay K | Holliswood, NY | 9/19/2003
Cossio, Jose | Miami, FL | 9/19/2003
Walker, Leonard | Vero Beach, FL | 9/19/2003
Visone, Leanora M | Ft. Lauderdale, FL | 9/19/2003
Williams, Merri A | Neeses, SC | 9/19/2003
Phillips. Veta Jo | Travelers Rest, SC | 9/19/2003
Merlino, John C | Tampa, FL | 9/19/2003
Bidelspach, John Samuel | Spring Hill, FL | 9/19/2003
Ginn, Audrey M | Lucasville, OH | 9/19/2003
Rugg, Dennis D | Waupun, WI | 9/19/2003
George H. Ilodi, D P M, Inc | E. Cleveland, OH | 9/19/2003
Mahoney, Linda S | Columbus, OH | 9/19/2003
Puterbaugh, Debra Ann | Anoka, MN | 9/19/2003
Jack A. Kaufman, D P M, P C | Farmington Hills, MI | 9/19/2003
Ilodi, George H | Solon, OH | 9/19/2003
Reams, James Edgar | Kerrville, TX | 9/19/2003
Garrett, Melissa Lou | Colorado Springs, CO | 9/19/2003
Brignac, Phyllis Guillory | Reddell, LA | 9/19/2003
Tullius, Richard Anthony | Hurricane, UT | 9/19/2003
Pierce, Shirley L | St. Louis, MO | 9/19/2003
Gram, Nina Joanne | Freeport, ME | 9/19/2003
Teran, Jo-Lene Lucille | Weed, CA | 9/19/2003
West, Sharon | Inglewood, CA | 9/19/2003
Cole, Wilhermina Omolara | Carson, CA | 6/23/2003
Roedel, Marlisa | Torrance, CA | 5/23/2003
Nwakwo, Raymond | Long Beach, CA | 9/19/2003
Ehumadu, Adolphus Kelechi | Diamond Bar, CA | 9/19/2003
Colosimo, Charles Philip | Las Vegas, NV | 9/19/2003
Colosimo, Roseann C | Las Vegas, NV | 9/19/2003
Quintero, Norazelh Bonillas | Phoenix, AZ | 9/19/2003
Vowles, Keith Orme | Reno, NV | 9/19/2003
FELONY CONVICTION FOR HEALTH CARE FRAUD
Levin, Richard A | Pittsford, NY | 9/19/2003
Dinkel, Arthur Jr | Denville, NJ | 9/19/2003
Fox, Paul John | Brooklyn, NY | 9/19/2003
Franken, Bruce Elliott | Columbus, OH | 9/19/2003
Powers, Robert D | Tipp City, OH | 9/19/2003
Powers, Tracy S | Tipp City, OH | 9/19/2003
West, Alex | W. Bloomfield, MI | 9/19/2003
Hall, Karen Sue | Warrenton, MO | 9/19/2003
Thompson, Shanay Arthell | Denver, CO | 9/19/2003
Hancock, Steven Mark | Springfield, MO | 9/19/2003
Ahrablou, Mehrad | Los Angeles, CA | 9/19/2003
FELONY CONTROL SUBSTANCE CONVICTION
Perminter, Margaret L | Alderson, WV | 9/19/2003
Billig, Edmund | Philadelphia, PA | 9/19/2003
Dykes, Edward | Lumberton, MS | 9/19/2003
Nelson, Ricky Joe | Fort Worth, TX | 9/19/2003
Carter, Janie H | Lexington, KY | 9/19/2003
Pollock, Tammy J | Smyrna, TN | 9/19/2003
Smith, Sondra | Rossville, GA | 9/19/2003
Twedt, Linda M | Columbus, GA | 9/19/2003
Stoltz, James Nathan | Manchester, KY | 9/19/2003
Romano, Robi G | Manchester, TN | 9/19/2003
Burkhart, Terri M | Indian Mound, TN | 9/19/2003
Harvey, Jennifer Leigh | Houghton Lake, MI | 9/19/2003
Hughes, Amy Christine | Lafayette, IN | 9/19/2003
Dicello, Michael A Jr | Mentor, OH | 9/19/2003
Hall, Cathalen Bratcher | Houston, TX | 9/19/2003
Greer, Christopher Wayne | Texarkana, TX | 9/19/2003
Hammett, Kathleen A | Center, TX | 9/19/2003
Towle, Lisa Marie | Welsh, LA | 9/19/2003
Martin, Jeffrey Rogers | Beaumont, TX | 9/19/2003
Whitaker, Eilea L | Marion, AR | 9/19/2003
Eastman, Cheryl Lynn | Crow Agency, Mt | 9/19/2003
Mitchell, Julie Ann | Salt Lake City, UT | 9/19/2003
Haldaman, Karen Lynn | Coudersport, PA | 9/19/2003
Materi, Kathleen | Nekoma, ND | 9/19/2003
Bloomfield, Harold Herman | San Diego, CA | 9/19/2003
PATIENT ABUSE/NEGLECT CONVICTIONS
Sisco, Barbara Lois | Keene, NH | 9/19/2003
Tingle, Trevor | Newburgh, NY | 9/19/2003
Klein, Victor | New York, NY | 9/19/2003
Look, William S | Rome, NY | 9/19/2003
Taormina, Theresa Ann | Monaca, PA | 9/19/2003
McLane, John | Columbia, SC | 9/19/2003
Graddy, Camelia Yolanda | Wrightsville, GA | 9/19/2003
Vo, Andrew M | Palm Bay, FL | 9/19/2003
Mearite, Pearlie | Dillon, SC | 9/19/2003
Mathis, Jacqueline Denise | Jackson, MS | 9/19/2003
Walker, Aubrey D | Gloster, MS | 9/19/2003
Smith, Roberto | Detroit, MI | 9/19/2003
Farrow, Dewanna | Madison, WI | 9/19/2003
Robinson, Rosalind L | Milwaukee, WI | 9/19/2003
Ivers, Tim | Fairfield, OH | 9/19/2003
Mathis, Harold Irwin | West Bloomfield, MI | 9/19/2003
Williams, Leon Dewayne | Grand Rapids, MI | 9/19/2003
Graham, Carolyn | Detroit, MI | 9/19/2003
Fugere, Linda Joy | Freesoil, MI | 9/19/2003
Stewart, Sharicka Jvon | Alexandria, LA | 9/19/2003
Dominquez, Grace Victoria | Northglenn, CO | 9/19/2003
Dodd, John Alphonsus | Clinton, IA | 9/19/2003
Forbes, Monica Estelle | Bettendorf, IA | 9/19/2003
Heiss, Richard James | Bakersfield, CA | 9/19/2003
Bullock, Clarence | Anchorage, AK | 9/19/2003
Shipman, Adam L | Vancouver, WA | 9/19/2003
Duarte, Nancy | Glendale, AZ | 9/19/2003
Smith, Chinelo Amaka | North Las Vegas, NV | 9/19/2003
CONVICTION FOR HEALTH CARE FRAUD
Mayfield, Donna Carolyn | Salt Lake City, UT | 9/19/2003
LICENSE REVOCATION/SUSPENSION/SURRENDERED
Crewson, Laura Elizabeth | Sullivan, NH | 9/19/2003
Hope, Peter Blanchard | Moultonborough, NH | 9/19/2003
Peterson, Charlene Joan | Dorchester, MA | 9/19/2003
Prescott, April Dawn | Tilton, NH | 9/19/2003
Tombeng, David | Rochester, NH | 9/19/2003
Ladega, Lynne D | Randolph, MA | 9/19/2003
Kline, Bruce Robert | Winthrop, MA | 9/19/2003
Yu, Jian | Hamilton, MA | 9/19/2003
Harrison, Donna Michelle | South Hamilton, MA | 9/19/2003
Inskeep, Patricia Gail | Pownal, VT | 9/19/2003
Sirois, James R | Bangor, ME | 9/19/2003
Coughlin, Linda Louise | West Springfield, MA | 9/19/2003
Vaz, Arthur Lewis Jr | New Bedford, MA | 9/19/2003
Peterson, Ruth Anne | New Bedford, MA | 9/19/2003
Delisle, Christine Marie | Wales, MA | 9/19/2003
Enos, Elaine Ruth | Wollaston, MA | 9/19/2003
Ferreira, Donna Marie | Warren, RI | 9/19/2003
Chadwick, Simeon | Winooski, VT | 9/19/2003
Cooney, Glen Patrick | White River Junction, VT | 9/19/2003
Ouellette, Maureen Ann | Hooksett, NH | 9/19/2003
Getman (Parks), Lisa | Enfield, NH | 9/19/2003
Ojiearontor, Godfrey E | Wilder, NH | 9/19/2003
Scarpino, Lisa May | Manchester, NH | 9/19/2003
Lovering, Lynn Louise | Weare, NH | 9/19/2003
Reyes, Cheryl Anne | Manchester, NH | 9/19/2003
Marchand, Anthony | Basking Ridge, NJ | 9/19/2003
Stokes, Ronald L | Long Branch, NJ | 9/19/2003
Khan, Nisaruddin | Olean, NY | 9/19/2003
Galle, James | Hackensack, NJ | 9/19/2003
Scarborough, Susan A | Rochester, NY | 9/19/2003
Leatherdale, Laura | Wrightstown, NJ | 9/19/2003
Pinkerton, Marian | Riverton, NJ | 9/19/2003
Slakie, Christine | Willingboro, NJ | 9/19/2003
Barna, Arlene | Oaklyn, NJ | 9/19/2003
Friedman, Sherry | Oak Ridge, NJ | 9/19/2003
Buono, Donna | Marlton, NJ | 9/19/2003
Burns, Margaret | Scotch Plains, NJ | 9/19/2003
Garwood, Donna | Lafayette, NJ | 9/19/2003
Wells, Alan | Edison, NJ | 9/19/2003
Macola, Josephine | Scotch Plains, NJ | 9/19/2003
Amato, Vanessa A | N Arlington, NJ | 9/19/2003
McAnaney, Susan M | Somers Point, NJ | 9/19/2003
Greene, Liza | Pennsville, NJ | 9/19/2003
Ilgenfritz, Geraldine | Glendora, NJ | 9/19/2003
Yule, Robert C | Middletown, NJ | 9/19/2003
Chavanon, Bernadette | Berlin, NJ | 9/19/2003
Zihala, Teresa | Spotswood, NJ | 9/19/2003
Hamm, Carrie | Linden, NJ | 9/19/2003
Arneson, Victoria | Cranford, NJ | 9/19/2003
Pitter, Patrick Arthur | Brooklyn, NY | 9/19/2003
Murawaski, Constance Rambo | Horsham, PA | 9/19/2003
Polk, Alvin L | Aston, PA | 9/19/2003
Dressler, Tammy Kephart | Windsor, PA | 9/19/2003
Borowksi, Donna M | Colorado Springs, CO | 9/19/2003
Barr, Reid E | Strasburg, VA | 9/19/2003
Dolinish, Ilona J | Old Forge, PA | 9/19/2003
Wooldridge, Judith | Frederick, MD | 9/19/2003
Morton, James D | Philadelphia, PA | 9/19/2003
Karnes, Joyce E | Whitaker, PA | 9/19/2003
Lynn, Ellen Katz | Lebanon, PA | 9/19/2003
Hentz, Clark B | Chickamauga, GA | 9/19/2003
Carr, Dianne F | Tallahassee, FL | 9/19/2003
Adderly, Pamela | Miami, FL | 9/19/2003
Gootgeld, Donna L | Hollywood, FL | 9/19/2003
Harrison, Brenda S | Charleston, MS | 9/19/2003
Halter, Amy F | Port St Lucie, FL | 9/19/2003
Eads, Joe Danny | Naples, FL | 9/19/2003
Lewis, Beverly C | Nashville, TN | 9/19/2003
Moody, Mae Rose | Lakeland, FL | 9/19/2003
Miller, Sandi Smith | Pensacola, FL | 9/19/2003
Miller, Nissa L | Franklin, TN | 9/19/2003
Milton, Donna K | Clarksville, TN | 9/19/2003
Hernandez, Alisha | Jackson, MS | 9/19/2003
Nations, Shawn Rene | Newhebron, MS | 9/19/2003
Moore, Suzanne S | Lawrenceville, GA | 9/19/2003
Lanier, Chris L | Magnolia, NC | 9/19/2003
Walter, Gregory A | Jonesboro, TN | 9/19/2003
McReynolds, Robert Lee | Keystone Heights, FL | 9/19/2003
Mustur, Srentenija | Santa Cruz, CA | 9/19/2003
Fritz, Laura A | Bunnell, FL | 9/19/2003
Ausborn, Rachel Joyce | Pensacola, FL | 9/19/2003
Hendon, Stephanie | Indianola, MS | 9/19/2003
Moles-Miranda, Lori | Livingston, TN | 9/19/2003
Koppelman, Linda Langohr | Vero Beach, FL | 9/19/2003
O'Brien, Maureen Mary | Spring Hill, FL | 9/19/2003
Ritchey, Nancy R | Chattanooga, TN | 9/19/2003
Lu, Jiade J | New York, NY | 9/19/2003
Corbett, Tamya Denise Gillespie | Pike Rd, AL | 9/19/2003
Morris, Pamela Gwen Gibbs | Southside, AL | 9/19/2003
Hann, Stacie Lynne | Brighton, AL | 9/19/2003
Feltner, Bonnie Louise Wyah | Corbin, KY | 9/19/2003
Brooks, Elizabeth S | Clermont, FL | 9/19/2003
Ghigliotty, Joanna Lynn | Ocklawaha, FL | 9/19/2003
Johnson, Julie E | Port St Joe, FL | 9/19/2003
Lemieux, Bryant George | Tampa, FL | 9/19/2003
Maggard, Vickie Lynn | Olive Hill, KY | 9/19/2003
McCalister, Valerie | Lakeland, FL | 9/19/2003
Rossi, Cheryl Ann | Royal Palm Beach, FL | 9/19/2003
Saunders, James Chalker | Keystone Heights, FL | 9/19/2003
Swartz, Lila Florence | Tallahassee, FL | 9/19/2003
Tremer, Catherine | Pensacola, FL | 9/19/2003
McDonald, Anna H | Daytona, FL | 9/19/2003
McKee, Michael John | Winter Springs, FL | 9/19/2003
Moriarty, Shawn Timothy | Jacksonville, FL | 9/19/2003
Poteat, Anthony Paul | Silver Springs, FL | 9/19/2003
Gurley, Bradley M | Oak Ridge, TN | 9/19/2003
Eustaquio, Lena Ignacio | Miami, FL | 9/19/2003
Saunders, Thomas M | Casselberry, FL | 9/19/2003
Fugate, Marjorie A | Ferguson, KY | 9/19/2003
Cecil, Dana Jo | Philpot, KY | 9/19/2003
Barton, Teresa K | Flemingsburg, KY | 9/19/2003
Leudenburg, William A | Carlisle, KY | 9/19/2003
Myers, Gregory Reed | Crestview, FL | 9/19/2003
Durrence, Terri Michelle | McGregor, TX | 9/19/2003
Broner, Cynthia W | Columbus, OH | 9/19/2003
Kennen, James Michael | Cleveland, OH | 9/19/2003
Cole, Douglas Agee | Traverse City, MI | 9/19/2003
Jackson, Dathan Ondreal | Belleville, IL | 9/19/2003
Zorger, David M | Godfrey, IL | 9/19/2003
Mercado, Sofia M | Chicago, IL | 9/19/2003
Larry, Rose Ellen | Jackson, MS | 9/19/2003
Mensen, Margaret M | Belleville, IL | 9/19/2003
Ross, Debrah A | Chicago, IL | 9/19/2003
Garner, Helen M | Summit Argo, IL | 9/19/2003
Pavel, Emanuela E | Lake Zurich, IL | 9/19/2003
Henderson, Cara J | East Peoria, IL | 9/19/2003
Cole, Angela R | Maywood, IL | 9/19/2003
Clark, Audra Kaye | Sterling, IL | 9/19/2003
Chaparro, Jose A | Chicago, IL | 9/19/2003
Carver, Tracy Renee | Park Forest, IL | 9/19/2003
Redman, Dianna L | Port Byron, IL | 9/19/2003
Walker, Desiree Estelle | Frankfort, KY | 9/19/2003
Ivy, Robert Lee | San Antonio, TX | 9/19/2003
Hill, Linda Marie | Denton, TX | 9/19/2003
Temple, Rita Fay | Dallas, TX | 9/19/2003
Haney, Nicolle Dauphinee | Dallas, TX | 9/19/2003
McLarty, Richard Wayne | Longview, TX | 9/19/2003
McWilliams, David J | Oklahoma City, OK | 9/19/2003
Holt, Betty Irene | N. Little Rock, AR | 9/19/2003
Smith, Detra Leana | Sherman, TX | 9/19/2003
Dewindt-Harris, Lorraine Barbara | Lamarque, TX | 9/19/2003
McByrde, Martha Ann | West Memphis, AR | 9/19/2003
Roach, Brenda Maye Hightower | Pearcy, AR | 9/19/2003
Haynes, Rhonda Lynn Johnson Sweeney | Hermitage, AR | 9/19/2003
Hunt, Doris Jean Duty | Batesville, AR | 9/19/2003
Ball, Lisa An | Wichita, KS | 9/19/2003
Hornak, Eric A | Denver, CO | 9/19/2003
Parcel, Troy Ross | Springfield, MO | 9/19/2003
Ketchum, Carol Lynn | Peyton, Co | 9/19/2003
Hanson, Cathy Jean | Grand Junction, CO | 9/19/2003
Muth, Kimberly Ann | Aurora, CO | 9/19/2003
Fields, Kerry Lynn | Lakewood, CO | 9/19/2003
Cormier, Larry J | Pueblo West, CO | 9/19/2003
Rimpley, Shanna V'Ann | Montrose, CO | 9/19/2003
Jordan, Nicole Collette | St. George, UT | 9/19/2003
Miller, Regina Sue | Lacygne, KS | 9/19/2003
DuPuy, Cynthia A | Adel, IA | 9/19/2003
Charles, Christopher M | Salina, KS | 9/19/2003
Spenler, Laurie D | Iowa City, IA | 9/19/2003
Cardwell, Monte | Salina, KS | 9/19/2003
Pickard, Roland Douglas | Salida, CO | 9/19/2003
Jones, Carol J | Bonne Terre, MO | 9/19/2003
Chambers, Marcia | St. Louis, MO | 9/19/2003
Hollinger, Mark A | Springfield, MO | 9/19/2003
Byland, Karen Mae | Moberly, MO | 9/19/2003
Dotson, Violet Carter | San Francisco, CA | 9/19/2003
Rutledge, Valerie | Modesto, CA | 9/19/2003
Mendoza, Serafin Perez | Newark, CA | 9/19/2003
Dye, Richard B | Half Moon Bay, CA | 9/19/2003
Mann, Peter Michael | Crescent City, CA | 9/19/2003
Price, Charles Lyman | San Francisco, CA | 9/19/2003
Aguiar, Nancy Leigh | Boise, ID | 9/19/2003
Carty, Theophile | Los Angeles, CA | 9/19/2003
Figueroa, Abraham Jose | Tucson, AZ | 9/19/2003
Hilde, Reuben L. Jr | Whittier, CA | 9/19/2003
Sison, Renato Fernandez | Riverside, CA | 9/19/2003
Santos, Enriqueta | Rosemead, CA | 9/19/2003
Healy, Bridget Anne | Azusa, CA | 9/19/2003
Christiansen, Nancy A | Tucson, AZ | 9/19/2003
Castorina, Cyndi Ann | Whittier, CA | 9/19/2003
Rogers, Kathleen JoAnn | Long Beach, CA | 9/19/2003
Doran, Andrew J. Connick | Inglewood, CA | 9/19/2003
Rech, Geraldine Alice | Riverside, CA | 9/19/2003
Wooley, Johnny R. II | Long Beach, CA | 9/19/2003
Cho, Nam Kyung | Los Angeles, CA | 9/19/2003
Tager, Robert | North Hollywood, CA | 9/19/2003
Griffin, Anissa C | Surprise, AZ | 9/19/2003
Federal/State Exclusion/Suspension
Aulova, Zinaida | Forest Hills, NY | 9/19/2003
Henderickson, C. Gregory | Parshall, ND | 9/19/2003
Pioneer Drug Inc | Parshall, ND | 9/19/2003
Fraud/Kickbacks
Batoff, Stephen B | Yardley, PA | 1/30/2003
Rodell, Calvin A | Stone Mountain, GA | 9/19/2003
Bajwa, Ahsan Klim | Fresno | 5/16/2003
Owned/Controlled by Convicted Entities
Dyersburg Minor Medical Clinic | Dyersburg, TN | 9/19/2003
Dyersburg Children's Clinic PC | Dyersburg, TN | 9/19/2003
John R. Minarcik, MD, SC | Vero Beach, FL | 9/19/2003
U.S. International Healthcare | New York, NY | 9/19/2003
Aris Medical Equipment Corp | Tallahassee, FL | 9/19/2003
Drake's Prescription Center | Casper, WY | 9/19/2003
C. Philip Colosimo, PHD & Associates, Ltd | Las Vegas, NV | 9/19/2003
Default on Heal Loan
Fluck, Dennis W | Breinigsville, PA | 9/19/2003
Lumpkins, Lola R | Chicago, IL | 9/19/2003
Glover, Geraldine M | Cleveland Heights, OH | 8/20/2003

Dated: September 2, 2003.
Katherine B. Petrowski,
Director, Exclusions Staff, Office of Inspector General.

[FR Doc. 03-23638 Filed 9-16-03; 8:45 am]

BILLING CODE 4150-04-P